NATIONAL SCIENCE FOUNDATION

Sunshine Act Meetings; National Science Board

The National Science Board, pursuant to NSF regulations (45 CFR part 614), the National Science Foundation Act, as amended, (42 U.S.C. 1862n-5), and the Government in the Sunshine Act (5 U.S.C. 552b), hereby gives notice of the scheduling of meetings for the transaction of National Science Board business as follows:

DATE AND TIME: August 9, 2016 from 8:00 a.m. to 4:35 p.m., and August 10, 2016 from 8:00 a.m. to 2:20 p.m. EDT.

PLACE: These meetings will be held at the National Science Foundation, 4201 Wilson Blvd., Room 1235, Arlington, VA 22230. All visitors must contact the Board Office (call 703-292-7000 or send an email to nationalsciencebrd@nsf.gov) at least 24 hours prior to the meeting and provide your name and organizational affiliation. Visitors must report to the NSF visitor's desk in the lobby of the 9th and N. Stuart Street entrance to receive a visitor's badge.

WEBCAST INFORMATION: Public meetings and public portions of meetings will be webcast. To view the meetings, go to http://www.tvworldwide.com/events/nsf/160809 and follow the instructions.

UPDATES: Please refer to the National Science Board Web site for additional information. Meeting information and schedule updates (time, place, subject matter, and status of meeting) may be found at http://www.nsf.gov/nsb/meetings/notices.jsp.

AGENCY CONTACT: John Veysey, jveysey@nsf.gov, 703-292-7000.

PUBLIC AFFAIRS CONTACT: Nadine Lymn, nlymn@nsf.gov, 703-292-2490.

STATUS: Portions open; portions closed.

Open Sessions

August 9, 2016

8:00-8:30 a.m. Plenary introduction, NSB Chair and NSF Director Remarks

8:30-9:25 a.m. Joint session—Committee on Audit and Oversight and Committee on Strategy and Budget

9:25-10:25 a.m. Committee on Audit and Oversight (A&O)

10:40 a.m.-12:10 p.m. Committee on Strategy and Budget (CSB)

1:35-3:25 p.m. Committee on Programs and Plans (CPP)

3:40-4:15 p.m. CSB Subcommittee on Facilities (SCF)

4:15-4:35 p.m. Joint session—Subcommittee on Facilities and Committee on Programs and Plans

August 10, 2016

8:00-9:45 a.m. Committee on Science and Engineering Indicators (SEI)

1:15-2:20 p.m. (Plenary)

Closed Sessions

August 9, 2016

1:10-1:35 p.m. (CSB)

August 10, 2016

10:00-11:00 a.m. (CPP)

11:00-11:30 a.m. (Plenary)

11:30-11:45 a.m. (Plenary Executive)

Matters To Be Discussed

Tuesday, August 9, 2016

Plenary Board meeting

Open session: 8:00-8:30 a.m.

• NSB Chair's Opening Remarks

• NSF Director's Remarks

Joint Session of the Committee on Audit and Oversight (A&O) and Committee on Strategy and Budget

Open session: 8:30-9:25 a.m.

• Committee Chairs' Opening Remarks

• NSF FY 2015 Annual Report on Merit Review

• Committee Chairs' Closing Remarks

Committee on Audit and Oversight (A&O)

Open session: 9:25-10:25 a.m.

• A&O Chair's Opening Remarks

• Approval of Open A&O Minutes for May 2016

• Inspector General's Update

• Chief Financial Officer's Update

• Update on Intergovernmental Personnel Act Program Review

• Update on Implementation of Steps Resulting from National Academy of Public Administration Report

• A&O Chair's Closing Remarks

Committee on Strategy and Budget (CSB)

Open session: 10:40 a.m.-12:10 p.m.

• CSB Chair's Opening Remarks

• Approval of Open CSB Minutes for May 2016

• Update on FY 2017 Budget

• Discussion—NSF's Ideas for Future Investment

• Review of Planning Process to Develop the 2018-2022 Strategic Plan

• CSB Chair's Closing Remarks

Committee on Strategy and Budget

Closed session: 1:10-1:35 p.m.

• CSB Chair's Opening Remarks

• Approval of Closed CSB Minutes for May 2016

• Update on FY 2016 Budget Items Under Negotiation

• Update on NSF FY 2018 Budget Request Development

• CSB Chair's Closing Remarks

Committee on Programs and Plans

Open session: 1:35-3:25 p.m.

• CPP Chair's Opening Remarks

• Approval of Open CPP Minutes for May 2016

• Calendar Year 2017 Schedule of Planned Action and Information Items: Update for the August 2016 meeting

• National Ecological Observatory Network (NEON) Root Causes Report and NSF Response

• STEM Education: Perspectives from the Education and Human Resources Directorate

• CPP Chair's Closing Remarks

CSB Subcommittee on Facilities (SCF)

Open session: 3:40-4:15 p.m.

• SCF Chair's Opening Remarks

• Approval of Open SCF Minutes for May 2016

• Report on Facilities-related Roles and Responsibilities Meeting

• Discussion of Potential SCF Activities in 2016/2017

• SCF Chair's Closing Remarks

Joint Session of the CSB Subcommittee on Facilities and Committee on Programs and Plans

Open session: 4:15-4:35 p.m.

• Committee Chairs' Opening Remarks

• Discussion of the NEON Performance and Plans (NPP) report recommendations

Matters To Be Discussed

Wednesday, August 10, 2016

Committee on Science and Engineering Indicators (SEI)

Open session: 8:00-9:45 a.m.

• SEI Chair's Opening Remarks

• Approval of Open SEI Minutes for May 2016

• Maximizing the Effectiveness of Science and Engineering Indicators

• Introduction to Indicators 2018 and Discussion of Chapter/Topic Narratives

• Update on the Companion Brief on Career Pathways of STEM Ph.D.s

• Discussion of the Next Companion Brief and Other Indicators Communication Mechanisms

• SEI Chair's Closing Remarks

Committee on Programs and Plans

Closed Session: 10:00-11:00 a.m.

• Committee Chair's Opening Remarks

• Approval of Closed CPP Minutes for May 2016

• Continued Discussion of Mid-scale Research Infrastructure

• Divestment Process and Status for Arecibo and Other Observatories

• Committee Chair's Closing Remarks

Plenary Board

Closed session: 11:00-11:30 a.m.

• NSB Chair's Opening Remarks

• Approval of Closed Plenary Minutes for May 2016 meeting and June 2016 teleconference

• NSF Director's Remarks

• Closed Committee Reports

• NSB Chair's Closing Remarks

Plenary Board (Executive)

Closed session: 11:30 a.m.-11:45 a.m.

• NSB Chair's Opening Remarks

• Approval of Closed Plenary Executive Minutes for May 2016

• NSF Award Involving a Board Member

• NSB Chair's Closing Remarks

Plenary Board

Open session: 1:15-2:20 p.m.

• NSB Chair's Opening Remarks

• Approval of Open Plenary Minutes for May 2016

• NSF Director's Remarks

• Impact of Brexit Regarding Science Cooperation

• Office of Legislative and Public Affairs (OLPA) Strategic Communications Plan

• Open Committee Reports

• Discussion of Materials for the Presidential Transition

• Discussion and Approval of NSB Meeting Dates for 2017

• NSB Chair's Closing Remarks

Meeting Adjourns: 2:20 p.m.

Chris Blair,
Executive Assistant, National Science Board Office.

[FR Doc. 2016-18663 Filed 8-2-16; 4:15 pm]

BILLING CODE 7555-01-P